ENVIRONMENTAL PROTECTION AGENCY

40 CFR Part 52

[EPA-R04-OAR-2023-0518; FRL-11955-02-R4]

Air Plan Approval; GA; Revisions to the State Implementation Plan Gasoline Transport Vehicles and Vapor Collection Systems Rule

AGENCY: Environmental Protection Agency (EPA).

ACTION: Final rule.

SUMMARY: The Environmental Protection Agency (EPA) is approving a revision to the Georgia State Implementation Plan (SIP) submitted by the Georgia Department of Natural Resources Environmental Protection Division (GA EPD) on September 28, 2023, for the purpose of clarifying requirements for gasoline transport vehicles and making minor administrative changes. EPA is approving Georgia's September 28, 2023, SIP revision pursuant to the Clean Air Act (CAA or Act).

DATES: This rule is effective August 15, 2024.

ADDRESSES: EPA has established a docket for this action under Docket Identification No. EPA-R04-OAR-2023-0518. All documents in the docket are listed on the regulations.gov website. Although listed in the index, some information may not be publicly available, i.e.,Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that, if at all possible, you contact the person listed in the FOR FURTHER INFORMATION CONTACT section to schedule your inspection. The Regional Office's official hours of business are Monday through Friday 8:30 a.m. to 4:30 p.m., excluding Federal holidays.

FOR FURTHER INFORMATION CONTACT: Weston Freund, Air Regulatory Management Section, Air Planning and Implementation Branch, Air and Radiation Division, Region 4, U.S. Environmental Protection Agency, 61 Forsyth Street SW, Atlanta, Georgia 30303-8960. The telephone number is (404) 562-8773. Mr. Freund can also be reached via electronic mail at freund.weston@epa.gov.

SUPPLEMENTARY INFORMATION:

I. This Action

EPA is approving a SIP revision submitted by the GA EPD on September 28, 2023, amending Rule 391-3-1-.02(2)(ss), Gasoline Transport Vehicles and Vapor Collection Systems,¹ to clarify requirements for tank labeling and increase consistency with other rules. EPA is approving these changes because they are administrative in nature and would therefore not interfere with any applicable requirement concerning attainment and reasonable further progress or any other applicable requirement of the CAA.²

¹ Table 1 to Paragraph (c)—EPA-Approved Georgia Regulations at 40 CFR 52.570(c) incorrectly refers to Rule 391-3-1-.02(2)(ss) as “Gasoline Transport Systems and Vapor Collection Systems” rather than “Gasoline Transport Vehicles and Vapor Collection Systems” as approved October 13, 1992. See 57 FR 46780. In addition to the changes described herein, EPA is correcting the title of Rule 391-3-1-.02(2)(ss) in 40 CFR 52.570(c) to accurately reflect the title as approved on October 13, 1992.

² See CAA section 110(l).

Through a notice of proposed rulemaking (NPRM), published on May 17, 2024, (89 FR 43357), EPA proposed to approve the September 28, 2023, changes to Georgia Rule 391-3-1-.02(2)(ss), Gasoline Transport Vehicles and Vapor Collection Systems. The details of Georgia's submission, as well as EPA's rationale for approving the changes, are described in more detail in the May 17, 2024, NPRM. Comments on the May 17, 2024, NPRM were due on or before June 16, 2024. No comments were received on the NPRM, adverse or otherwise.

II. Incorporation by Reference

In this document, EPA is finalizing regulatory text that includes incorporation by reference. In accordance with requirements of 1 CFR 51.5, as discussed in Section I of this preamble, EPA is finalizing the incorporation by reference of Georgia Rule 391-3-1-.02(2)(ss), Gasoline Transport Vehicles and Vapor Collection Systems, which changes “paragraph” to “subparagraph” in Rule 391-3-1-.02(2)(ss)1., adds “(month and year)” to Rule 391-3-1-.02(2)(ss)1.(ii), changes “subparagraph” to lower case in Rule 391-3-1-.02(2)(ss)2.(ii), and changes “section” to “paragraph” in Rule 391-3-1-.02(2)(ss)3., state effective on September 17, 2023. EPA has made, and will continue to make, these materials generally available through www.regulations.gov and at the EPA Region 4 Office (please contact the person identified in the For Further Information Contact section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.³

³ See 62 FR 27968 (May 22, 1997).

III. Final Action

EPA is approving the aforementioned Georgia SIP revision consisting of administrative changes to Rule 391-3-1-.02(2)(ss), Gasoline Transport Vehicles and Vapor Collection Systems, for the reasons discussed above.

IV. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term “fair treatment” to mean that “no group of people should bear a disproportionate burden of environmental harms and risks, including those resulting from the negative environmental consequences of industrial, governmental, and commercial operations or programs and policies.”

GA EPD did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for people of color, low-income populations, and Indigenous peoples.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by September 16, 2024. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 9, 2024.
Jeaneanne Gettle
Acting Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart L—Georgia

2. In § 52.570(c), amend table 1 by revising the entry for “391-3-1-.02(2)(ss)” to read as follows:

§ 52.570 Identification of plan.

* * * * *

(c) * * *

Table 1 to Paragraph (c)—EPA-Approved Georgia Regulations
State citation | Title/subject | State effective date | EPA approval date | Explanation
* * * * * * *
391-3-1-.02(2)(ss) | Gasoline Transport Vehicles and Vapor Collection Systems | 09/17/2023 | 7/16/2024 [Insert first page of Federal Register citation]
* * * * * * *

* * * * *

[FR Doc. 2024-15397 Filed 7-15-24; 8:45 am]

BILLING CODE 6560-50-P